SURFACE TRANSPORTATION BOARD

[Docket No. FD 36839]

Cumberland & Knox Railroad, LLC—Modified Certificate of Public Convenience and Necessity

Cumberland & Knox Railroad, LLC (C&K),¹ a noncarrier, has filed a notice for a modified certificate of public convenience and necessity under 49 CFR part 1150 subpart C—Modified Certificate of Public Convenience and Necessity, for C&K to operate a portion of the Rockland Branch, owned by the state of Maine (the State), between milepost 33.79 ² at Brunswick, Me., and milepost 85.91 at Rockland, Me. (the Line).³

¹ The notice indicates that C&K is a new entity and an affiliate of Maine Switching Services, LLC, which will provide financial responsibility for C&K obligations until such time as C&K can assume that responsibility. (Notice 2.)

² C&K states that CSX Transportation, Inc. (CSXT), has an easement on an adjoining segment, from milepost 28.03 to milepost 33.79. (Notice 3.) According to the notice, C&K and CSXT are discussing the precise interchange location, which is anticipated to be on the adjoining CSXT segment. (Id.)

³ Although the notice describes the Line as a portion of the Rockland Branch, it appears that the segment from milepost 85.55 to milepost 85.91 is part of the Atlantic Branch Line, which is also owned by the State. See Midcoast Railservice, Inc.—Discontinuance of Serv. Exemption—in Cumberland, Knox, Lincoln, Sagadahoc Cntys., Me., AB 1341X (STB served Dec. 3, 2024).

C&K states that the Line was authorized for abandonment by a decision of the Interstate Commerce Commission in Docket No. AB-83 (Sub-No. 8) served on October 10, 1985. According to C&K, the Line was subsequently acquired by the State. (Notice 2.) See Safe Handling Rail, Inc.—Modified Rail Certificate, FD 33967 (STB served Dec. 22, 2000).

According to the notice, C&K and the State have entered into an Operating Lease Agreement, dated April 30, 2025,⁴ which provides an initial term from April 30, 2025, until December 30, 2030. (Notice 3.)

⁴ Public and confidential versions of the Lease and Operating Agreement were filed. The confidential versions were submitted under seal concurrently with a motion for protective order, which will be addressed in a separate decision.

The Line qualifies for a modified certificate of public convenience and necessity. See Common Carrier Status of States, State Agencies & Instrumentalities & Pol. Subdivs., FD 28990F (ICC served July 16, 1981); 49 CFR 1150.22. C&K states that no subsidy is involved and that there will be no preconditions that shippers must meet to receive service. (Notice 3.) C&K's notice also includes a certificate of liability insurance coverage. (Notice Ex. A.)

This notice will be served on the Association of American Railroads (Car Service Division), as agent for all railroads subscribing to the car-service and car-hire agreement, at 425 Third Street SW, Suite 1000, Washington, DC 20024; and on the American Short Line and Regional Railroad Association at 50 F Street NW, Suite 500, Washington, DC 20001.

Board decisions and notices are available at www.stb.gov.

Decided: June 24, 2025.
By the Board, Scott M. Zimmerman, Acting Director, Office of Proceedings.
Tammy Lowery,
Clearance Clerk.

[FR Doc. 2025-11898 Filed 6-26-25; 8:45 am]

BILLING CODE 4915-01-P